DEPARTMENT OF EDUCATION

[CFDA No. 84.310A]

Parental Information and Resource Centers Program; Notice Inviting Applications for New Awards for Fiscal Year (FY) 2002

Purposes of Program: To support school-based and school-linked parental information and resource centers (PIRCs) that—

(1) Implement effective parental involvement policies, programs, and activities that will improve children's academic achievement;

(2) Develop and strengthen partnerships among parents (including parents of children from birth through age five), teachers, principals, administrators, and other school personnel in meeting the educational needs of children;

(3) Develop and strengthen the relationship between parents and their child's school;

(4) Further the developmental progress of children assisted under the program;

(5) Coordinate activities funded under the program with parental involvement initiatives funded under section 1118 and other provisions of the Elementary and Secondary Education Act (ESEA); and

(6) Provide a comprehensive approach to improving student learning, through coordination and integration of Federal, State, and local services and programs.

Eligible Applicants: Non-profit organizations, or consortia of non-profit organizations and local educational agencies (LEAs). We have published elsewhere in this issue of the Federal Register eligibility requirements that clarify the meaning of the term “non-profit organization” for purposes of this competition. LEAs alone are not eligible to apply for funding.

Applications Available: May 28, 2002.

Deadline for Transmittal of Applications: June 27, 2002.

Deadline for Intergovernmental Review: September 10, 2002.

Notificaiton of Intent to Apply for Funding: We will be able to develop a more efficient process for reviewing grant applications if we have a better understanding of the number of entities that intend to apply for funding. Therefore, we strongly encourage each potential applicant to send, by June 12, 2002, a notification of its intent to apply for funding to the following address: daisy.greenfield@ed.gov.

The notification of intent to apply for funding is optional and should not include information regarding the proposed application. Eligible applicants that fail to provide the notification may still submit an application by the application deadline.

Estimated Available Funds: $20 million.

Estimated Average Size of Awards: $570,000.

Funding of continuation awards after the initial year of funding is contingent upon future Congressional appropriations for the program. The Administration has not requested funding for this program in its FY 2003 budget proposal.

Estimated Number of Awards: 35.

These estimates are projections for the guidance of potential applicants. The Department is not bound by any estimates in this notice.

Project Period: Up to 48 months.

Applicable Regulations: (a) The Education Department General Administrative Regulations (EDGAR) in 34 CFR parts 75, 77, 79, 81, 82, 85, 97, 98, and 99; (b) The regulations in 34 CFR part 80 also apply to an LEA that is part of a consortium receiving assistance; and (c) The Notice of Final Priority, Selection Criteria, and Eligibility Requirements as published elsewhere in this issue of the Federal Register.

Competitive Preference: We have published elsewhere in this issue of the Federal Register a competitive preference for the FY 2002 PIRC competition. Applicants that meet this competitive preference will receive 10 additional points in the competition. These points are in addition to the points an applicant receives under the selection criteria.

Selection Criteria: We have published elsewhere in this issue of the Federal Register the selection criteria that will govern this competition.

For Applications and Further Information Contact: Daisy Greenfield, Office of Elementary and Secondary Education, U.S. Department of Education, 400 Maryland Avenue, SW., Room 3E307, FOB-6, Washington, DC 20202-6400. Telephone: (202) 401-0039 or via Internet: daisy.greenfield@ed.gov.

Individuals who use a telecommunications device for the deaf (TDD) may call the Federal Information Relay Service (FIRS) at 1-888-877-8339.

Individuals with disabilities may obtain this notice in an alternative format (e.g., Braille, large print, audiotape, or computer diskette) on request to the contact person listed above. Please note, however, that the Department is not able to reproduce in an alternative format the standard forms included in the notice.

Electronic Access to This Document

You may view this document, as well as all other Department of Education documents published in the Federal Register, in text or Adobe Portable Document Format (PDF) on the Internet at the following site: www.ed.gov/legislation/FedRegister.

To use PDF, you must have the Adobe Acrobat Reader, which is available free at this site. If you have questions about using PDF, call the U.S. Government Printing Office (GPO) at (202) 512-1530 or, (toll free, at 1-888-293-6498), or in the Washington, DC, area at (202) 512-1530.

The official version of this document is the document published in the Federal Register. Free Internet access to the official edition of the Federal Register and the Code of Federal Regulations is available on GPO Access at: http://www.access.gpo.gov/nara/index.html.

Program Authority: 20 U.S.C. 7273 et seq.

Dated: May 23, 2002.
Susan B. Neuman,
Assistant Secretary for Elementary and Secondary Education.

[FR Doc. 02-13370 Filed 5-24-02; 8:45 am]

BILLING CODE 4000-01-P